GENERAL SERVICES ADMINISTRATION

[Notice-PBS-2023-01; Docket No. 2023-0002; Sequence No. 3]

Draft Environmental Impact Statement and Draft Finding of No Practicable Alternative for the Expansion and Modernization of the Raul Hector Castro Land Port of Entry and Proposed Commercial Land Port of Entry in Douglas, Arizona

AGENCY: Public Buildings Service (PBS), General Services Administration (GSA).

ACTION: Notice of availability; public notice of Draft Finding of No Practicable Alternative (FONPA); announcement of meeting.

SUMMARY: This notice announces the availability of the Draft Environmental Impact Statement (DEIS), which examines the potential environmental impacts from the expansion and modernization of the Raul Hector Castro (RHC) Land Port of Entry (LPOE) in Douglas, Arizona, and construction of a new Commercial LPOE to address various operational, capacity, and safety issues associated with the existing facility. The existing RHC LPOE is owned and managed by GSA and is operated by the U.S. Department of Homeland Security's Customs and Border Protection (CBP). The DEIS describes the purpose and need for the project; alternatives considered; the existing environment that could be affected; the potential impacts resulting from each of the alternatives; and proposed best management practices and/or mitigation measures. The DEIS also includes the Draft Finding of No Practicable Alternative (FONPA), which provides a floodplain assessment and statement of findings as a result of construction in a floodplain at the RHC LPOE.

DATES: Meeting Date—A public meeting will be held on Wednesday, February 22nd from 4 p.m. to 6 p.m., MST. The meeting will be held in the Douglas Visitor Center, where interested parties are invited to join and provide verbal or written comments on the DEIS and Draft FONPA.

Public Comments - The public comment period begins with the publication of this NOA in the Federal Register. Please submit public comments on or before March 13th, 2023. After the comment period, GSA will prepare the Final EIS.

ADDRESSES:

Meeting Location—A public meeting will be held at the Douglas Visitor Center, 345 16th St, Douglas, AZ 85607.

Public Comments—In addition to verbal and written comments provided at the public meeting, members of the public may also submit comments by one of the following methods:

• Email: Osmahn.Kadri@gsa.gov. Please include `RHC LPOE EIS' in the subject line of the message.

• Mail: ATTN: Osmahn Kadri, RHC LPOE EIS; U.S. General Services Administration, c/o Potomac-Hudson Engineering, Inc., 77 Upper Rock Circle, Suite 302, Rockville MD 20850.

FOR FURTHER INFORMATION CONTACT: Osmahn Kadri, NEPA Project Manager, GSA at 415-522-3617 or Osmahn.Kadri@gsa.gov. Please also call the number if special assistance is needed to attend and participate in the public meeting.

SUPPLEMENTARY INFORMATION:

Background

The RHC LPOE is a full-service, multi-modal port, where CBP currently inspects commercially-owned vehicles (COVs), privately-owned vehicles (POVs), and pedestrians at the U.S.- Mexico border in Douglas, Arizona. The current facilities at the RHC LPOE no longer function adequately given the site constraints, steady increase in traffic, and outdated facilities and technologies. The interaction between COVs, POVs, and pedestrian traffic is also a concern at the RHC LPOE. Inadequate pathways and separations between traffic types cause safety and security issues for CBP officers and the general public. As downtown Douglas is located just north of the RHC LPOE, traffic congestion and trucks hauling hazardous materials through the city are also a concern in the community.

The purpose of the project is for GSA to support CBP's mission by bringing the RHC LPOE operations in line with current land port design standards and operational requirements of CBP while addressing existing operational deficiencies. The project is needed to: improve capacity and functionality of the LPOE to meet future demand while maintaining the capability to meet border security initiatives; ensure the safety and security for workers and users of the LPOE; and improve traffic congestion and safety for the City of Douglas.

The Proposed Action would comprise of: (1) construction of a new commercial port facility dedicated to COVs, located approximately 5 miles west of the existing RHC LPOE; and (2) expansion and modernization of existing RHC LPOE facilities to serve as a noncommercial facility for POVs and pedestrians. Expansion and modernization of existing RHC LPOE facilities would require a multi-phase construction plan to ensure that operations are continuous and that safety and security of the RHC LPOE are maintained. Action alternatives were analyzed that consider both sequential and concurrent construction at both sites.

Both action alternatives would take place within 100-year and 500-year floodplains at the existing RHC LPOE. In compliance with Executive Order 11988 (Floodplain Management), GSA prepared a Draft FONPA addressing potential impacts on floodplains, which is included in the DEIS for public review and comment. As described in the DEIS, GSA would follow regulatory compliance (e.g., measures outlined in the Arizona Stormwater General Construction Permit) and incorporate design standards at the RHC LPOE to minimize impacts to floodplains.

Public Comment Period

The views and comments of the public are necessary in helping GSA in its decision-making process with impacts to environmental, cultural, and economic impacts. The meeting will be an informal open house, where visitors may speak with GSA representatives, receive information, and provide written comments. No formal presentation will be provided. All comments received, written or verbal, will be considered equally and will become part of the public record. Further information on the project, including an electronic copy of the DEIS, may also be found online at the following websites: https://www.gsa.gov/about-us/regions/welcome-to-the-pacific-rim-region-9/land-ports-of-entry/douglas-commercial-land-port-of-entry and https://www.gsa.gov/about-us/regions/welcome-to-the-pacific-rim-region-9/land-ports-of-entry/raul-hector-castro-land-port-of-entry.

Russell Larson,
Director, Portfolio Management Division, Pacific Rim Region, Public Buildings Service.

[FR Doc. 2023-01549 Filed 1-26-23; 8:45 am]

BILLING CODE 6820-YF-P